DEPARTMENT OF DEFENSE

Office of the Secretary

Amendment to Department of Defense Federal Advisory Committees

AGENCY: DoD.

ACTION: Amendment to Federal Advisory Committee.

SUMMARY: Under the provisions of the Federal Advisory Committee Act of 1972, (5 U.S.C. Appendix, as amended), the Sunshine in the Government Act of 1976 (5 U.S.C. 552b, as amended), and 41 CFR 102-3.85, the Department of Defense gives notice that it is amending the charter for the Defense Advisory Board for Employer Support of the Guard and Reserve (hereafter referred to as the Board).

The Department of Defense hereby authorizes the Board to establish and use subcommittees as necessary and consistent with its mission. These subcommittees or working groups shall operate under the provisions of the Federal Advisory Committee Act of 1972, the Sunshine in the Government Act of 1976, and other appropriate Federal regulations.

Such subcommittees or workgroups shall not work independently of the chartered Board, and shall report all their recommendations and advice to the Board for full deliberation and discussion. Subcommittees or workgroups have no authority to make decisions on behalf of the chartered Board nor can they report directly to the Department of Defense or any federal officers or employees who are not Board Members.

SUPPLEMENTARY INFORMATION: The Board is a discretionary federal advisory committee established by the Secretary of Defense to provide the Department of Defense independent advice concerning matters arising from the military service obligations of members of the National Guard and Reserve members and the impact on their civilian employment. Pursuant to DoD policy, the Assistant Secretary of Defense (Reserve Affairs) may act upon the advice of the Board.

The Board shall be composed of no more than fifteen members appointed by the Secretary of Defense for three-year terms, and their appointments will be renewed on an annual basis. Those members, who are not full-time federal officers or employees, shall serve as Special Government Employees under the authority of 5 U.S.C. 3109.

Board members, with the exception of travel and per diem for official travel, shall serve without compensation. The Assistant Secretary of Defense (Reserve Affairs) shall select the Board's Chairperson from the Board membership at large.

The Board shall meet at the call of the Board's Designated Federal Officer, in consultation with the Chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Defense Advisory Board for Employer Support of the Guard and Reserve membership about the Board's mission and functions. Written statements may be submitted at any time or in response to the stated agenda of planned meeting of the Defense Advisory Board for Employer Support of the Guard and Reserve.

All written statements shall be submitted to the Designated Federal Officer for the Defense Advisory Board for Employer Support of the Guard and Reserve, and this individual will ensure that the written statements are provided to the membership for their consideration. Contact information for the Defense Advisory Board for Employer Support of the Guard and Reserve's Designated Federal Officer can be obtained from the GSA's FACA Database— https://www.fido.gov/facadatabase/public.asp.

The Designated Federal Officer, pursuant to 41 CFR 102-3.150, will announce planned meetings of the Defense Advisory Board for Employer Support of the Guard and Reserve. The Designated Federal Officer, at that time, may provide additional guidance on the submission of written statements that are in response to the stated agenda for the planned meeting in question.

FOR FURTHER INFORMATION CONTACT: Contact Jim Freeman, Deputy Committee Management Officer for the Department of Defense, 703-601-2554, extension 128.

Dated: December 7, 2007.
L.M. Bynum,
Alternate OSD Federal Register Liaison Officer, Department of Defense.

[FR Doc. E7-24224 Filed 12-13-07; 8:45 am]

BILLING CODE 5001-06-P